DEPARTMENT OF HEALTH AND HUMAN SERVICES

National Institutes of Health

Eunice Kennedy Shriver National Institute of Child Health & Human Development; Amended Notice of Meeting

Notice is hereby given of a change in the meeting of the National Institute of Child Health and Human Development Special Emphasis Panel, IDDRC Review Intellectual and Developmental Disabilities Research Centers 2020, April 21, 2020, 08:00 a.m. to April 22, 2020, 05:00 p.m. which was published in the Federal Register on March 06, 2020, 85 FR 10707.

The meeting format has changed from in-person meeting to a teleconference meeting. The meeting is closed to the public.

Dated: March 16, 2020.
Ronald J. Livingston, Jr.,
Program Analyst, Office of Federal Advisory Committee Policy.

[FR Doc. 2020-05820 Filed 3-19-20; 8:45 am]

BILLING CODE 4140-01-P